ENVIRONMENTAL PROTECTION AGENCY

[FRL-7373-3]

Notice of Availability of National Management Measures to Control Nonpoint Source Pollution From Urban Areas and Request for Comments

AGENCY: Environmental Protection Agency (EPA).

ACTION: Notice of availability and request for comment.

SUMMARY: EPA is requesting comment on draft guidance for the prevention and control of urban runoff. This technical guidance was written to provide technical assistance to State and local elected officials and agencies, landowners, developers, environmental and conservation groups, and watershed practitioners on the best available, most economically achievable means of reducing nonpoint source pollution from urban sources. The guidance is not a regulation and it does not impose legally binding requirements on EPA, States, Territories, authorized Tribes, or the public.

The guidance is organized from a watershed perspective and was written to cover all phases of runoff management from planning and development to program evaluation. The guidance provides up-to-date effectiveness and cost information on management practices, literature citations, internet links to additional information and case studies from across the country. Reviewers should note that the draft technical guidance is consistent with the Guidance Specifying Management Measures for Sources of Nonpoint Pollution in Coastal Waters (EPA 840-B-92-002), which EPA published in January 1993 under the authority of section 6217(g) of the Coastal Zone Act Reauthorization Amendments of 1990 (CZARA). The draft document does not supplant or replace the 1993 document, but provides an expanded framework for addressing urban runoff. The guidance was written to apply to both coastal and inland areas and contains updated technical information that has become available since the 1993 guidance was published. The guidance is not intended to be used as a basis to review and approve either CZARA section 6217 or Clean Water Act section 319 State nonpoint source management programs. However, EPA and the National Oceanic and Atmospheric Administration (NOAA) encourage use of the revised guidance in the development and revision of Tribal, State and local programs to address urban runoff/storm water. The draft guidance revises several of the management measures published in 1993 due to the availability of new information and evolving management approaches. In addition, four new management measures have been added to provide information on developing and implementing a comprehensive runoff management program.

EPA will consider comments on this draft guidance and will then issue final guidance.

DATES: Written comments should be submitted to the person listed below by December 9, 2002.

ADDRESSES: Comments should be sent to Rod Frederick, Assessment and Watershed Protection Division (4503-T), U.S. Environmental Protection Agency, 1200 Pennsylvania Avenue, NW., Washington, DC 20460. Non-U.S. Postal Service comments should be sent to Rod Frederick, Assessment and Watershed Protection Division, U.S. Environmental Protection Agency, EPA West, Room 7417A, 1301 Constitution Ave., NW., Washington, DC 20004. Faxed comments should be sent to Rod Frederick at (202) 566-1331. Comments can also be emailed to frederick.rod@epa.gov.

The complete text of the draft guidance is available on EPA's Internet site on the Nonpoint Source Control Branch homepage at http://www.epa.gov/owow/nps. Copies of the complete draft can also be obtained in electronic or hard copy format by request from Rod Frederick at the above address, by e-mail at Frederick.Rod@epa.gov, or by calling (202) 566-1197.

FOR FURTHER INFORMATION CONTACT: Rod Frederick at (202) 566-1197 or email: frederick.rod@epa.gov.

SUPPLEMENTARY INFORMATION:

I. Background

In 1993, under the authority of section 6217(g) of the CZARA, EPA issued Guidance Specifying Management Measures for Sources of Nonpoint Pollution in Coastal Waters. The 1993 guidance document details management measures appropriate for the control of five categories of nonpoint sources of pollution in the coastal zone: agriculture, forestry, urban areas, marinas and recreational boating, and hydromodification. States and Territories were required to adopt measures “in conformity” with the coastal management measures guidance for their Coastal Nonpoint Pollution Control Programs.

State, Territory, and Tribal water quality assessments continue to identify nonpoint source pollution as a major cause of degradation in surveyed waters nationwide. In 1987 Congress enacted section 319 of the Clean Water Act to establish a national program to control nonpoint sources of water pollution. Under section 319, States, Territories, and Tribes assess the nonpoint source pollution problems within the State, Territory, or Tribal lands; identify the sources of pollution; and implement management programs to control the pollution. Section 319 also authorizes EPA to award grants to States, Territories, and Tribes to assist them in implementing management programs that EPA has approved. Program implementation includes nonregulatory and regulatory programs, technical assistance, financial assistance, education, training, technology transfer, and demonstration projects. In fiscal year 2002, Congress appropriated and EPA awarded $237.5 million for nonpoint source management program grants. EPA has awarded a total of approximately $1.5 billion to States, Territories, and Indian Tribes since 1990. The 1993 management measures guidance, developed under the authority of CZARA, focused on conditions and examples of management measure implementation within the coastal zone. To date, technical guidance on the best available, economically achievable measures for controlling nonpoint sources with a national focus has not been released. The draft national management measures guidance for urban areas is intended to partially address this gap. Although the practices detailed in the 1993 coastal guidance apply generally to inland areas, EPA has recognized the utility of developing and publishing technical guidance that explicitly addresses nonpoint source pollution on a nationwide basis. Moreover, additional information and examples from research and experience with management measure implementation and assessments of urban watersheds are available to enrich the national guidance. These changes have helped to prompt the revision and expansion of the urban chapter of the 1993 guidance.

II. Scope of the Draft Urban Nonpoint Source Management Measures Guidance—Sources of Nonpoint Source Pollution Addressed

The draft Urban Nonpoint Source Management Measures Guidance was written to provide information useful in the development, implementation and enhancement of new and existing urban runoff management programs. The guidance was structured to reflect the major phases and elements that should generally be included and implemented in an effective urban runoff/storm water program. EPA envisions that the guidance will serve both as a template for the development of new comprehensive runoff/programs and as a technical reference for existing program managers.

The guidance contains a set of twelve management measures that address various aspects of program development from planning and assessment to management practice selection and eventually program monitoring and evaluation. Each management measure is a collection of management actions or program elements that EPA has determined are important to prevent and reduce urban nonpoint source pollution. EPA has provided a list of practices that can be used to implement the objectives of each management measure. Both nonstructural and structural management practices are included in the guidance. Examples of nonstructural practices include planning and zoning, minimizing/limiting impervious surfaces, source reduction and recycling, runoff management ordinances, siting to minimize disturbance of natural drainage systems, and operation and maintenance programs. Examples of structural practices include conventional and alternative onsite wastewater treatment systems such as septic tanks followed by drain fields or recirculating media filters, and runoff controls such as silt fencing, infiltration (e.g., berms and trenches), low impact bioretention (e.g., rain gardens, vegetated roofs, vegetated swales), and detention and retention (e.g., wet and dry ponds, street and swale storage, and baffle boxes).

III. Approach Used To Develop Guidance

The draft National Urban Nonpoint Source Management Measures Guidance is based, in large part, on the 1993 coastal guidance. The coastal guidance was developed using a workgroup approach to draw upon technical expertise within other Federal agencies as well as State water quality and coastal zone management agencies. To revise the guidance, EPA conducted a literature review, interviewed technical experts and collected and evaluated new information. The 1993 text has been expanded to include new and updated information about the cost and effectiveness of runoff treatment practices; examples of urban nonpoint source projects that successfully implement the practices outlined in the guidance; methods for evaluating the effectiveness of nonpoint source control programs; and descriptions of technical references and guidance manuals that are useful references for urban runoff program managers. A few management measures have been added to frame the urban measures in the context of an overall watershed approach to control urban sources of pollution.

IV. Request for Comments

EPA is soliciting comments on the draft guidance. Specific issues EPA seeks comments on include: examples of effective runoff control strategies, programs, rules and regulations that illustrate the concepts in the guidance; information pertaining to demonstrated water quality or habitat benefits from the implementation of the approaches and practices described in the draft guidance; management practice effectiveness studies and data, cost information and information on operation and maintenance practices.

Dated: August 29, 2002.
G. Tracy Mehan III,
Assistant Administrator for Water.

[FR Doc. 02-22813 Filed 9-6-02; 8:45 am]

BILLING CODE 6560-50-P